DEPARTMENT OF STATE

[Public Notice 12607]

30-Day Notice of Proposed Information Collection: Affidavit of Relationship (AOR)

ACTION: Notice of request for public comment and submission to OMB of proposed collection of information.

SUMMARY: The Department of State has submitted the information collection described below to the Office of Management and Budget (OMB) for approval. In accordance with the Paperwork Reduction Act of 1995, we are requesting comments on this collection from all interested individuals and organizations. The purpose of this Notice is to allow 30 days for public comment.

DATES: Submit comments up to January 15, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Direct requests for additional information regarding the collection listed in this notice, including requests for copies of the proposed collection instrument and supporting documents, to Daniel Carson—2025 E Street, NW Washington DC, 20520 who may be reached on (202) 227-6016 or at carsondp@state.gov.

SUPPLEMENTARY INFORMATION:

• Title of Information Collection: Affidavit of Relationship (AOR).

• OMB Control Number: 1405-0206.

• Type of Request: Reinstatement of a previously approved collection.

• Originating Office: PRM/A.

• Form Number: DS-7656.

• Respondents: A respondent in the United States completes the AOR to: (a) establish that he or she was admitted to the United States as a refugee or granted asylum; (b) provide a list of qualifying family members (spouse, unmarried children under 21, and parents) who may wish to apply for refugee resettlement to the United States; and (c) establish that the family members are nationals of qualifying countries under the P-3 program.

• Estimated Number of Respondents: 300.

• Estimated Number of Responses: 300.

• Average Time per Response: Ninety Minutes.

• Total Estimated Burden Time: 450 hours.

• Frequency: On occasion.

• Obligation to Respond: Required to Obtain or Retain a Benefit.

We are soliciting public comments to permit the Department to:

• Evaluate whether the proposed information collection is necessary for the proper functions of the Department.

• Evaluate the accuracy of our time and cost burden estimate for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The Affidavit of Relationship (AOR) is required by the Department of State to establish qualification for access to the Priority-3 (P-3) Family Reunification category of the United States Refugee Admissions Program (USRAP). The P-3 category, along with the other categories of cases that have access to USRAP, is outlined in the annual Report to Congress on Proposed Refugee Admissions, which is submitted on behalf of the President in fulfillment of the requirements of section 207(d) of the Immigration and Nationality Act (8 U.S.C. 1157) and authorized by the annual Presidential Determination on Refugee Admissions. The P-3 category is available to qualifying family members of U.S.-based residents (persons already admitted to the U.S. as refugees or who were granted asylum in the United States, including persons who may now be lawful permanent residents or U.S. citizens). Qualifying family members of U.S.-based residents include spouses, unmarried children under age 21, and parents. Eligible P-3 nationalities are determined on an annual basis by the President.

In order to access the USRAP through P-3, an applicant must have an Affidavit of Relationship (AOR) filed on his or her behalf by a U.S-based family member. The AOR also informs the U.S-based family member that DNA evidence of all claimed parent-child relationships between the U.S-based family member and parents and/or unmarried children under 21 is required as a condition of access to P-3 processing; it further informs the U.S-based family member that the costs of DNA testing will be borne by the U.S. government. DNA testing between the QFM and any derivative applicant(s) (unmarried child under the age of 21), to prove the existence of their claimed family relationship, will be at no expense to the U.S. government.

Methodology

This information collection currently involves the limited use of electronic techniques. An anchor may complete an AOR at any local office of a Resettlement Agency (RA) that has a cooperative agreement with the Department of State to assist refugees who have been resettled in the United States. In order to file an AOR, a U.S-based family member must be at least 18 years of age and have been admitted to the United States as a refugee or granted asylum in the United States no more than five years prior to the filing of the AOR. The AOR is available electronically, is completed electronically with the assistance of RA staff, and is submitted electronically by RA staff to a Department of State-contracted facility, where it is manually uploaded into the USRAP case management system. In addition, the RA local office prints a copy for the respondent's ink signature, then submits the signed form to the RA headquarters.

Kelly A Gauger,
Deputy Director, PRM/A, Department of State.

[FR Doc. 2024-29538 Filed 12-13-24; 8:45 am]

BILLING CODE 4710-33-P